Proclamation 8000 of April 7, 2006

National D.A.R.E. Day, 2006

By the President of the United States of America

A Proclamation

On National D.A.R.E. Day, we honor the dedicated police officers and all those involved in the Drug Abuse Resistance Education (D.A.R.E.) program and underscore our commitment to helping young people say no to drugs and violence. By promoting positive youth development, D.A.R.E. programs across our country are helping our children make the right choices and build lives of purpose.

Since 1983, D.A.R.E. has taught young people how to recognize and resist the pressure to be involved in drugs, gangs, and violent activities. The D.A.R.E. program brings police officers into the classroom to answer tough questions about drugs and crime, teaches students how to avoid temptation, and encourages communication between young people and law enforcement. This program strengthens our communities and provides our children with a strong foundation for success.

My Administration remains committed to helping our young people overcome the dangers of violence and the use of illegal substances. The Helping America's Youth initiative, led by First Lady Laura Bush, encourages local partnerships that empower families, schools, and communities to help young people reach their full potential. We are also strengthening youth drug prevention efforts on the State and local levels with the Strategic Prevention Framework and the Drug Free Communities program. These initiatives tailor prevention strategies to local needs and give community organizations the power to identify challenges and take actions to overcome them.

In 2005, the National Youth Anti-Drug Media Campaign and the Partnership for a Drug-Free America launched Above the Influence, an advertising and online campaign to encourage teens to reject drug use and other negative pressures. My Administration has also hosted a series of summits to educate community leaders and school officials on successful student drug testing.

The struggle against alcohol abuse, drugs, and violence is a national, state, and local effort. Parents, teachers, volunteers, D.A.R.E. officers, and all those who help our young people grow into responsible, successful adults are strengthening our country and contributing to a future of hope for everyone.

NOW, THEREFORE, I, GEORGE W. BUSH, President of the United States of America, by virtue of the authority vested in me by the Constitution and laws of the United States, do hereby proclaim April 11, 2006, as National D.A.R.E. Day. I call upon young people and all Americans to fight drug use and violence in our communities. I also urge our citizens to support the law enforcement officials, volunteers, teachers, health care professionals, and all those who work to help our children avoid drug use and violence.

IN WITNESS WHEREOF, I have hereunto set my hand this seventh day of April, in the year of our Lord two thousand six, and of the Independence of the United States of America the two hundred and thirtieth.

B

[FR Doc. 06-3531

Filed 4-10-06; 8:50 am]

Billing code 3195-01-P